DEPARTMENT OF COMMERCE

International Trade Administration

Smart Cities Infrastructure Business Development Mission to India

February 8-12, 2016.

AGENCY: International Trade Administration, Department of Commerce.

ACTION: Notice.

SUMMARY: The United States Department of Commerce, International Trade Administration, is amending the Notice published at 80 FR 46243 (August 4, 2015), regarding the executive-led Smart Cities Infrastructure Business Development Mission to India, February 8-12, 2016, to extend the date of the application deadline from November 10, 2015 to the new deadline of November 20, 2015 and to specify that Deputy Secretary Bruce Andrews will be the executive lead.

SUPPLEMENTARY INFORMATION: Amendments to Revise the Dates and Executive Leadership.

Background

The executive lead for this mission will be Deputy Secretary of Commerce, Bruce Andrews. Due to this leadership update, it has been determined that additional time is needed to allow for additional recruitment and marketing in support of the Mission. Applications will now be accepted through November 20, 2015 (and after that date if space remains and scheduling constraints permit). Interested U.S. companies and trade associations/organizations providing infrastructure goods and services which have not already submitted an application are encouraged to do so.

We will be conducting our vetting process at different intervals before November 20, 2015, as applications are received they may be viewed prior to the November 20 deadline.

The applicants selected will be notified by December 4, 2015.

Contact Information

Jessica Dulkadir, International Trade Specialist, Trade Missions, U.S. Department of Commerce, Washington, DC 20230, Tel: 202-482-2026, Fax: 202-482-9000, jessica.dulkadir@trade.gov.

Frank Spector,
Director (A), Trade Missions.

[FR Doc. 2015-24938 Filed 9-30-15; 8:45 am]

BILLING CODE 3510-FP-P